DEPARTMENT OF ENERGY

Federal Energy Regulatory Commission

[Docket No. CP17-178-000]

Alaska Gasline Development Corporation; Notice of Revised Schedule for Environmental Review of the Alaska LNG Project

This notice identifies the Federal Energy Regulatory Commission (Commission) staff's revised schedule for the completion of the environmental impact statement (EIS) for the Alaska Gasline Development Corporation's (AGDC) Alaska LNG Project. The previous notice of schedule, issued on August 31, 2018, identified November 8, 2019 as the final EIS issuance date. The previous notice stated that the forecasted schedule was based upon AGDC providing complete and timely responses to any data requests. In its partial data request responses filed in January and February 2019, AGDC states that it would provide the remainder of the responses in stages through July 2019. As a result, staff has revised the schedule for issuance of the EIS. The revised schedule for the EIS is based upon AGDC meeting its commitment to provide complete responses to outstanding data requests on the dates it has identified. Staff has revised the schedule for issuance of the final EIS based on an issuance of the draft EIS in June 2019.

Schedule for Environmental Review

Issuance of Notice of Availability of the final EIS—March 6, 2020

90-day Federal Authorization Decision Deadline—June 4, 2020

In an additional notice issued on August 31, 2018, the Commission identified February 6, 2020 as the anticipated final order issuance for the Alaska LNG Project. Based on the revised final EIS schedule, the Commission currently anticipates issuing a final order for the project no later than:

Issuance of Final Order—June 4, 2020

If a schedule change becomes necessary, an additional notice will be provided so that the relevant agencies are kept informed of the project's progress.

Additional Information

In order to receive notification of the issuance of the EIS and to keep track of all formal issuances and submittals in specific dockets, the Commission offers a free service called eSubscription. This can reduce the amount of time you spend researching proceedings by automatically providing you with notification of these filings, document summaries, and direct links to the documents. Go to www.ferc.gov/docs-filing/esubscription.asp.

Additional information about the Project is available from the Commission's Office of External Affairs at (866) 208-FERC or on the FERC website (www.ferc.gov). Using the eLibrary link, select General Search from the eLibrary menu, enter the selected date range and Docket Number excluding the last three digits (i.e., CP17-178), and follow the instructions. For assistance with access to eLibrary, the helpline can be reached at (866) 208-3676, TTY (202) 502-8659, or at FERCOnlineSupport@ferc.gov. The eLibrary link on the FERC website also provides access to the texts of formal documents issued by the Commission, such as orders, notices, and rule makings.

Dated: February 28, 2019.
Nathaniel J. Davis, Sr.,
Deputy Secretary.

[FR Doc. 2019-03995 Filed 3-5-19; 8:45 am]

BILLING CODE 6717-01-P